DEPARTMENT OF ENERGY

Federal Energy Regulatory Commission

[Docket No. EL14-57-000]

City of Hastings, Nebraska, City of Grand Island, Nebraska v. Southwest Power Pool, Inc.; Notice of Complaint

Take notice that on May 23, 2014, pursuant to section 206 and 306 of the Federal Power Act (FPA), 16 USC 824e and 825e and Rule 206 of the Federal Energy Regulatory Commission's (Commission) Rules of Practice and Procedure, 18 CFR 385.206, the City of Hastings, Nebraska and the City of Grand Island, Nebraska (collectively, Complainants) filed a formal complaint against Southwest Power Pool, Inc. (Respondent or SPP) alleging that, the Respondent may have misinterpreted its Tariff and is in violation of the FPA by demanding that the Complainants purchase transmission service that is not required by the Tariff and demanding that Complainants pay unreserved use penalties that are not permitted under the Tariff. In the alternative, if the Commission finds that SPP's interpretation is correct, the Complainants requests that the Commission determine that the affected provisions of the Tariff are unjust and unreasonable, as more fully explained in the Complaint.

The Complainants certify that copies of the Complaint were served on the contacts for the Respondent as listed in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 12, 2014

Dated: May 28, 2014.
Kimberly D. Bose,
Secretary.

[FR Doc. 2014-12873 Filed 6-3-14; 8:45 am]

BILLING CODE 6717-01-P